DEPARTMENT OF JUSTICE

Notice of Lodging of Proposed Consent Decree Under the Comprehensive Environemental Response, Compensation and Liability Act

On October 23, 2020, the Department of Justice lodged a proposed Consent Decree with the United States District Court for the District of Montana in the lawsuit entitled United States v. Atlantic Richfield Company, Civil Action No. CV89-039-BU-SEH.

The proposed Consent Decree would partially resolve claims the United States and State of Montana have brought pursuant to Section 107(a) of the Comprehensive Environmental Response, Compensation, and Liability Act, 42 U.S.C. 9607(a), against the Atlantic Richfield Company related to the Anaconda Smelter National Priorities List Site.

The Consent Decree requires Atlantic Richfield to construct enhanced remedial elements to address stormwater loading of contaminated sediments to surface water. Atlantic Richfield will remediate two smelter slag piles that have been left at the Site and will assure future operation and maintenance of the Old Works Golf Course in Anaconda, Montana, which was constructed on smelter wastes. In addition, the Consent Decree provides a path to waivers of surface water standards after Atlantic Richfield implements the technically practicable remedy elements outlined in the Consent Decree and its Statement of Work. The estimated cost of the work required under the Consent Decree is $23.7 million. The Consent Decree also requires Atlantic Richfield to provide financial assurances for future cleanup actions. The Consent Decree provides Defendants and certain related persons covenants not to sue under Sections 106, 107(a), and 113(f) of CERCLA, 42 U.S.C. 9606, 9607(a), and 9613(f); Sections 3004(u) and (v), 3008, and 7003 of RCRA, 42 U.S.C. 6924(u) and (v), 6928, and 6973; and Sections 309(b), 311, and 504 of the Clean Water Act, 33 U.S.C. 1319(b), 1321, and 1364.

The publication of this notice opens a period for public comment on the Consent Decree. Comments should be addressed to the Assistant Attorney General, Environment and Natural Resources Division, and should refer to United States and State of Montana v. Atlantic Richfield Company, D.J. Ref. No. 90-11-2-430. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $815.50 (25 cents per page reproduction cost) payable to the United States Treasury. For a paper copy of the Consent Decree without the appendices, the cost is $23.00.

Jeffrey Sands,
Assistant Section Chief, Environmental Enforcement Section, Environment and Natural Resources Division.

[FR Doc. 2020-24014 Filed 10-29-20; 8:45 am]

BILLING CODE P